DEPARTMENT OF TRANSPORTATION

Federal Aviation Administration

Public Notice for Waiver of Aeronautical Land-Use Assurance Austin Straubel International Airport Green Bay, WI

AGENCY: Federal Aviation Administration, DOT.

ACTION: Notice of intent of waiver with respect to land.

SUMMARY: The Federal Aviation Administration (FAA) is considering a proposal to change a portion of the airport from aeronautical use to non-aeronautical use and to authorize the sale of the airport property. Brown County, Wisconsin, as airport sponsor, is seeking release of 5.08 acres of land (hereafter referred to as the “parcel”) from compliance with assurances attached as conditions to Federal grant agreements. The parcel is located north of State Trunk Highway No. 172, and directly east of and adjacent to lands owned by the Oneida Nation. The parcel is presently undeveloped.

The parcel was originally acquired by Brown County in fee simple from a private seller in 1958 using local airport revenue sources. No Federal or State dollars were used in the acquisition. There are no impacts to the airport by allowing the airport to dispose of the property. The Oneida Nation, as prospective purchaser of the parcel, intends to utilize the parcel to allow for continued development of their existing convention facility. Approval does not constitute a commitment to the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before April 8, 2005.

FOR FURTHER INFORMATION CONTACT: Daniel J. Millenacker, Program Manager, FAA Airports District Office, 6020 28th Ave. South, Rm 102, Minneapolis, MN 55450-2706. Telephone Number (612) 713-4359/fax Number (612) 713-5364. Documents reflecting this FAA action may be reviewed at this same location or at Office of Airport Director, Austin Straubel International Airport, Green Bay, WI.

SUPPLEMENTARY INFORMATION: Following is a legal description of the property located in Green Bay, Brown County, WI, and described as follows:

A tract of land being part of Government Lot 7. Section 6, T23N, R20E located within the Village of Ashwaubenon, Brown County, Wisconsin more fully described as follows: Commencing at the southeast corner of Government Lot 5, Section 6, T23N, R20E; thence N 0 °20 ′33″ W 1.39 feet along the east line of said Government Lot 5 to the point of beginning; thence continuing along said line N 0°20′33″ W, 855.26 feet; thence N 0° 24′ 31″ W, 112.78 feet along the east line of Government Lot 4, said Section 6; thence S 65 °25 ′01″ E, 273.06 feet along the south line of Private Claim 31, west side of Fox River; thence S 0 °20 ′33″ E, 818.49 feet to the northerly right-of-way of S.T.H. 172, also known as C.T.H. “GG”; thence S 81 °42 ′18″ W, 249.91 feet along said right of way to the point of beginning. Said parcel contains 5.08 acres, more or less.

Issued in Minneapolis, MN on February 16, 2005.
Nancy M. Nistler,
Manager, Minneapolis Airports District Office, FAA, Great Lakes Region.

[FR Doc. 05-4131 Filed 3-8-05; 8:45 am]

BILLING CODE 4910-13-M